DEPARTMENT OF AGRICULTURE

Foreign Agricultural Service

Trade Adjustment Assistance for Farmers

AGENCY: Foreign Agricultural Service, USDA.

ACTION: Notice.

The Administrator, Foreign Agricultural Service (FAS), today terminated the certification of petitions for trade adjustment assistance (TAA) that was filed by the National Grape Cooperative Association representing Michigan and Washington Concord juice grape producers. Concord juice grape producers in these states are no longer eligible for TAA benefits in fiscal year 2007.

SUPPLEMENTARY INFORMATION: Upon investigation, the Administrator determined that U.S. imports of grape juice fell by 10.1 million liters between 2005 and 2006, a decline of 4 percent. Therefore, imports were no longer a contributing factor for program eligibility. An increase in imports is required for re-certifying a petition for TAA.

FOR FURTHER INFORMATION, CONTACT: Jean-Louis Pajot, Coordinator, Trade Adjustment Assistance for Farmers, FAS, USDA, (202) 720-2916, e-mail: trade.adjustment@fas.usda.gov.

Dated: January 17, 2007.
Michael W. Yost,
Administrator, Foreign Agricultural Service.

[FR Doc. E7-1572 Filed 1-31-07; 8:45 am]

BILLING CODE 3410-10-P